FEDERAL COMMUNICATIONS COMMISSION

Notice of Public Information Collection(s) Being Reviewed by the Federal Communications Commission, Comments Requested

September 25, 2007.

SUMMARY: The Federal Communications Commission, as part of its continuing effort to reduce paperwork burden, invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before December 3, 2007. If you anticipate that you will be submitting comments, but find it difficult to do so within the period of time allowed by this notice, you should advise the contact listed below as soon as possible.

ADDRESSES: You may submit all PRA comments by e-mail or U.S. mail. To submit your comments by e-mail, send them to PRA@fcc.gov. To submit your comments by U.S. mail, send them to Jerry Cowden, Federal Communications Commission, Room 1-B135, 445 12th Street, SW., Washington, DC 20554.

FOR FURTHER INFORMATION CONTACT: For additional information about the information collection(s), contact Jerry Cowden via e-mail at PRA@fcc.gov or call (202) 418-0447.

SUPPLEMENTARY INFORMATION: OMB Control No.: 3060-0971.

Title: Requests for “For Cause” Audits and State Commissions' Access to Numbering Resource Application Information (47 CFR 52.15).

Form No.: N/A.

Type of Review: Extension of a currently approved collection.

Respondents: Business or other for-profit; state, local or tribal government.

Number of Respondents: 2,050 respondents; 50,500 responses.

Estimated Time per Response: 15 minutes to 3 hours.

Frequency of Response: Third Party Disclosure, and on occasion reporting requirements.

Obligation to Respond: Required to obtain or retain benefits.

Total Annual Burden: 14,000 hours.

Total Annual Cost: None.

Privacy Impact Assessment: None.

Nature and Extent of Confidentiality: The Commission requires state commissions to treat carriers' applications for initial or growth numbering resources as well as their forecast and utilization data as confidential. In those instances where a state “open records” statute prevents the state from providing confidential protection for such sensitive carrier information the Commission will work with the state commission to enable it to obtain access to such information in a manner that addresses the state's need for this information and also protects the confidential nature of the carrier's sensitive information.

Needs and Uses: To ensure that the numbering resources of the North American Numbering Plan are used efficiently, the Commission authorized “for cause” audits as part of its comprehensive audit plan to verify carrier compliance with federal rules and orders and industry guidelines. It also provided state commissions with access to copies of carriers' applications for numbering resources. To request a “for cause” audit, the North American Numbering Plan Administrator (NANPA), the Pooling Administrator or a state commission must draft a request to the auditor stating the reason for the request, such as misleading or inaccurate data, and attach supporting documentation. Requests for copies of carriers' applications for numbering resources are made directly to the carriers by the state commissions. The information collected will be used by the FCC, state commissions, the NANPA and the Pooling Administrator to verify the validity and accuracy of carrier data and to assist state commissions in carrying out their numbering responsibilities, such as area code relief.

OMB Control No.: 3060-0972.

Title: Multi-Association Group (MAG) Plan Order, Parts 54 and 69 Filing Requirements for Regulation of Interstate Services of Non-Price Cap Incumbent Local Exchange Carriers and Interexchange Carriers.

Form No.: FCC Forms 507, 508 & 509.

Type of Review: Extension of a currently approved collection.

Respondents: Business or other for-profit; State, local or tribal government.

Number of Respondents: 1,300 respondents; 9,959 responses.

Estimated Time per Response: 1-90 hours.

Frequency of Response: Third Party Disclosure, and on occasion reporting requirements.

Obligation to Respond: Required to obtain or retain benefits.

Total Annual Burden: 43,119 hours.

Total Annual Cost: None.

Privacy Impact Assessment: Not applicable.

Nature and Extent of Confidentiality: There is no need for Confidentiality.

Needs and Uses: To administer the Universal Service Interstate Common Line Support mechanism, the Administrator must collect projected cost and revenue data and actual cost and revenue data from non-price cap incumbent local exchange carriers and interexchange carriers. In order to implement change to the interstate access tariffs, the Commission must continue to collect certain tariff-related information.

OMB Control Number: 3060-0809.

Title: Communications Assistance for Law Enforcement Act (CALEA).

Form Number: Not applicable.

Type of Review: Revision of a currently approved collection.

Respondents: Business or other for profit entities.

Number of Respondents: 250 respondents; 350 responses.

Estimated Time per Response: 18 hours average (range of 7.5 to 80 hours).

Frequency of Response: On occasion reporting requirements, recordkeeping requirement and third party disclosure.

Obligation to Respond: Of the total number of responses, 250 are mandatory according to the CALEA statute, and 100 are necessary for applicants that seek relief under select provisions of the CALEA statute.

Total Annual Burden: 6,275 hours.

Total Annual Cost: N/A.

Privacy Impact Assessment: No impact.

Nature and Extent of Confidentiality: There is no need for confidentiality.

Needs and Uses: The Communications Assistance for Law Enforcement Act (CALEA) requires the Commission to create rules that regulate the conduct and recordkeeping of lawful electronic surveillance. CALEA was enacted in October 1994 to respond to rapid advances in telecommunications technology and eliminates obstacles faced by law enforcement personnel in conducting electronic surveillance. Section 105 of CALEA requires telecommunications carriers to protect against the unlawful interception of communications passing through their systems. Law enforcement officials use the information maintained by telecommunications carriers to determine the accountability and accuracy of telecommunications carriers' compliance with lawful electronic surveillance orders.

On May 12, 2006, the Commission released a Second Report and Order and Memorandum Opinion and Order in ET Docket No. 04-195, FCC 06-56, which became effective August 4, 2006, except for §§ 1.20004 and 1.20005 of the Commission's rules, which became effective on February 12, 2007 when OMB approved their information collection requirements. The Second Report and Order established new guidelines for filing section 107(c) petitions, section 109(b) petitions, and monitoring reports (FCC Form 445). The monitoring reports were required on only one occasion and no renewal of that requirement is necessary. CALEA section 107(c)(1) permits a petitioner to apply for an extension of time, up to two years from the date that the petition is filed, and to come into compliance with a particular CALEA section 103 capability requirement. CALEA section 109(b) permits a telecommunication carrier covered by CALEA to file a petition with the FCC and an application with the Department of Justice (DOJ) to request that DOJ pay the costs of the carrier's CALEA compliance (cost-shifting relief) with respect to any equipment, facility or service installed or deployed after January 1, 1995. The Second Report and Order required several different collections of information:

(a) Within 90 days of the effective date of the Second Report and Order, facilities based broadband Internet access and interconnected Voice over Interconnected Protocol (VOIP) providers newly identified in the First Report and Order in this proceeding were required to file system security statements under the Commission's rules (system security statements are currently approved under the existing OMB 3060-0809 information collection).

(b) All telecommunications carriers, including broadband Internet access and interconnected VoIP providers, must file updates to their systems security statements on file with the Commission as their information changes.

(c) Petitions filed under Section 107(c), request for additional time to comply with CALEA; these provisions apply to all carriers subject to CALEA and are voluntary filings.

(d) Section 109(b), request for reimbursement of CALEA; these provisions apply to all carriers subject to CALEA and are necessary for carriers seeking relief under this section of the CALEA statute.

OMB Control Number: 3060-0207.

Title: Emergency Alert System Information Collections.

Form Number: Not applicable.

Type of Review: Revision of a currently approved collection.

Respondents: Business or other for-profit entities; State, Local or Tribal Governments; Non-profit entities.

Number of Respondents: 63,060 respondents; 3,465,823 responses.

Estimated Time per Response: 1 minute average (ranges from 1 minute to 20 hours).

Frequency of Response: Recordkeeping requirements; Reporting requirements; Third party disclosure requirement.

Obligation to Respond: Mandatory for private entities; Voluntary for states.

Total Annual Burden: 63,366 hours.

Total Annual Cost: None.

Privacy Impact Assessment: No impact(s).

Nature and Extent of Confidentiality: There is no need for confidentiality required for this information collection.

Needs and Uses: In the Second Report and Order and Further Notice of Proposed Rulemaking in EB Docket No. 04-296, FCC 07-109, the Commission adopts rules that require states to file new EAS plans with the Commission under certain circumstances, expand the number of private entities covered by EAS, and impose new obligations on private entities. These new rules will impact currently existing paperwork collection requirements as discussed below:

47 CFR 11.15 requires EAS participants to maintain a copy of the EAS operating handbook at normal duty positions or EAS equipment locations when an operator is required to be on duty. The handbook must be immediately available to staff responsible for authenticating messages and initiating actions.

47 CFR 11.21 requires that state and local EAS plans be reviewed and approved by the Chief, Public Safety and Homeland Security, prior to implementation to ensure that they are consistent with national plans, FCC regulations, and EAS operation.

47 CFR 11.34 requires manufacturers to include instructions and information on how to install, operate and program an EAS Encoder, EAS Decoder, or combined unit and a list of all State and county FIPS numbers with each unit sold or marketed in the U.S.

47 CFR 11.35 requires appropriate entries be made in the station/system logs indicating why any required EAS tests were not received for all broadcast streams and cable systems. All other EAS Participants must also keep a record indicating reasons why any tests were not received and these records must be retained for two years, maintained at the EAS Participant's headquarters, and made available for public inspection upon reasonable request.

47 CFR 11.35 also requires that entries be made in the station/system logs, and records of other EAS Participants, when the EAS Encoder/Decoder becomes defective showing the date and time the equipment was removed and restored to service. If replacement of defective equipment is not completed within 60 days, an informal request must be submitted to the District Director of the FCC field office. For DBS and SDARS providers, this informal request shall be submitted to the District Director of the FCC field office serving the area where their headquarters is located. This request must explain what steps have been taken to repair or replace the defective equipment, the alternative procedures being used while the defective equipment is out of service and when the defective equipment will be repaired or replaced.

47 CFR 11.41 allows all EAS Participants to submit a written request to the FCC asking to be a Non-Participating National source. In addition, a Non-Participating National source that wants to become a Participating National source must submit a written request to the FCC.

47 CFR 11.42 allows a communications common carrier to participate in the national level EAS, without charge. A communications common carrier rendering free service is required to file with the FCC, on or before July 31st and January 31st of each year, reports covering the six months ending on June 30th and December 31st respectively. These reports shall state what free service was rendered under this rule and the charges in dollars which would have accrued to the carrier for this service if charges had been collected at the published tariff rates if such carriers are required to file tariffs.

47 CFR 11.43 allows entities to voluntarily participate in the national level EAS after submission of a written request to the Director, Office of Homeland Security, Enforcement Bureau.

47 CFR 11.51 requires that EAS equipment be operational, ready to monitor, transmit and receive EAS electronic signals. Cable and wireless cable systems, both analog and digital, can elect not to interrupt EAS messages from broadcast stations based upon a written agreement between all concerned. Furthermore, cable and wireless cable systems, both analog and digital, can elect not to interrupt the programming of a broadcast station carrying news or weather related emergency information with state and local EAS messages based upon a written agreement between all concerned. These written agreements are contained in state and local franchise agreements.

47 CFR 11.51 also requires all actions to be logged when manual interruption of programming and transmission of EAS messages is used.

47 CFR 11.52 requires all EAS Participants to monitor two EAS sources. If the required EAS sources cannot be received, alternate arrangements or a waiver may be obtained by written request to the FCC's EAS office. Automatic interrupt of programming is required when facilities are unattended. Automatic operation must provide a permanent record of the EAS message.

47 CFR 11.54 requires EAS Participants to enter into their logs/records the time of receipt of an emergency alert notice and an emergency action termination messages during a national level emergency.

47 CFR 11.55 requires EAS participants to monitor their emergency alert system upon receipt of a state or local area EAS message. Stations/systems must also enter into their logs/records the time of receipt of an emergency alert message.

47 CFR 11.61 requires EAS Participants to conduct periodic EAS tests. Tests of the EAS header codes, attention signal, test script and EOM code are required to be performed monthly. Tests of the EAS header codes and end of message codes are made at least once a week. National primary sources shall participate in tests as appropriate. DBS providers, Class D non-commercial educational FM stations and low power TV stations are not required to transmit this test but must log receipt of the test. The FCC may request a report of the tests of the national primary sources. In addition, entries must be made in stations/systems logs/records as previously stated.

Federal Communications Commission.
Marlene H. Dortch,
Secretary.

[FR Doc. E7-19532 Filed 10-3-07; 8:45 am]

BILLING CODE 6712-01-P